DEPARTMENT OF HOMELAND SECURITY

Coast Guard

46 CFR Parts 1, 10, 12, 13, 14, 15, 28, 31, 71, 91, 107, 150, 176, 401 and 402

[USCG-2008-0906]

RIN 1625-ZA20

Shipping; Technical, Organizational, and Conforming Amendments

AGENCY: Coast Guard, DHS.

ACTION: Final rule.

SUMMARY: This rule makes non-substantive changes throughout Title 46 of the Code of Federal Regulations. The purpose of this rule is to make conforming amendments and technical corrections to Coast Guard shipping regulations. This rule will have no substantive effect on the regulated public. These changes are provided to coincide with the annual recodification of Title 46 on October 1.

DATES: This final rule is effective September 29, 2008.

ADDRESSES: Comments and material received from the public as well as documents mentioned in this preamble as being available in the docket, are part of USCG-2008-0906 and are available for inspection or copying at the Docket Management Facility (M-30), U.S. Department of Transportation, West Building Ground Floor, Room W12-140, 1200 New Jersey Avenue, SE., Washington, DC 20590, between 9 a.m. and 5 p.m., Monday through Friday, except Federal holidays. You may also find this docket on the Internet at www.regulations.gov.

FOR FURTHER INFORMATION CONTACT: If you have questions on this rule, call LCDR Reed Kohberger, CG-5232, Coast Guard, telephone 202-372-1471. If you have questions on viewing the docket, call Ms. Renee V. Wright, Program Manager, Docket Operations, telephone 202-366-9826.

SUPPLEMENTARY INFORMATION:

Table of Contents for Preamble

I. Regulatory History

II. Background and Purpose

III. Discussion of Rule

IV. Regulatory Evaluation

A. Executive Order 12866

B. Small Entities

C. Collection of Information

D. Federalism

E. Unfunded Mandates Reform Act

F. Taking of Private Property

G. Civil Justice Reform

H. Protection of Children

I. Indian Tribal Governments

J. Energy Effects

K. Technical Standards

L. Environment

I. Regulatory History

We did not publish a notice of proposed rulemaking (NPRM) for this regulation. Under both 5 U.S.C. 553(b)(A) and (b)(B), the Coast Guard finds this rule is exempt from notice and comment rulemaking requirements because these changes involve agency organization and practices, and good cause exists for not publishing an NPRM for all revisions in the rule because they are all non-substantive changes. This rule consists only of corrections and editorial, organizational, and conforming amendments. These changes will have no substantive effect on the public; therefore, it is unnecessary to publish an NPRM. Under 5 U.S.C. 553(d)(3), the Coast Guard finds that, for the same reasons, good cause exists for making this rule effective less than 30 days after publication in the Federal Register.

II. Background and Purpose

Each year the printed edition of Title 46 of the Code of Federal Regulations is updated on October 1. This rule, which becomes effective September 29, 2008, makes technical and editorial corrections throughout Title 46. This rule does not create any substantive requirements.

III. Discussion of Rule

This rule updates the address and contact information for the National Maritime Center (NMC) in 10 sections: the Marine Index Bureau in 1 section; the National Cargo Bureau in 1 section; and the International Cargo Bureau in 8 sections. We updated internal Coast Guard office designators in nine sections, and typographical errors were corrected in §§ 10.219, 28.50, 28.275(a)(2), 28.390(c), and 176.816. Further, certain sections of Title 46 previously included a list of Regional Examination locations; however, as a result of other rulemakings, these sections currently state that the list of Regional Examination locations is available through the Coast Guard Web site at http://www.uscg.mil. We updated cross-references to these sections in §§ 12.02-23(e), 12.02-27(a)(2), 13.107(f), 10.105 and 13.109(c) to ensure the public may easily locate the list of Regional Examination locations.

Additional amendments to parts 10, 14, 15, 28, 71, 91, 401, and 402 are:

46 CFR 10.464. We amended § 10.464(f)(3) for clarity and to make it consistent with § 10.464(f)(2).

46 CFR Part 14. We updated the address for the NMC throughout Title 46 to reflect their move to West Virginia. In addition to updating the address, we removed the outdated facsimile number in § 14.103(b), and replaced it with NMC's public contact e-mail address. The facsimile number listed is no longer valid, and the NMC is now accepting communications via electronic mail. We also added paragraph (c) to § 14.103 to provide the NMC's World Wide Web address.

46 CFR 15.610. We removed § 15.610(c) because it expired on May 21, 2006. We re-designated § 15.610(d) as § 15.610(c) due to the removal of paragraph (c).

46 CFR 28.575. We amended 46 CFR 28.575 to correct two typographical errors. The first typographical error appears in the formula in paragraph (b). Specifically, the figure two in the formula should be a superscripted figure two. The correct formula, with the superscripted figure, was added to the CFR in 1991 (56 FR 40413). The typographical error appeared in the CFR in 1997. The Coast Guard amended § 28.575 twice between 1991 and 1997 (56 FR 47679 and 60 FR 50461); however neither amendment affected the superscripted figure, and as such the cause for the error is unknown. Further, we have contacted members of the public that may have been impacted by the typographical error; and they have indicated that, in completing the calculation, they have relied on the original formula published in 1991 rather than the formula published since 1997. This amendment will merely restore the formula to that which was published in 1991. The second typographical error appears in Figure 28.575, which is the graphical representation for § 28.575. Figure 28.575 shows a heel angle of 40 degrees while the text of the rule in paragraph (e)(3) states a heel angle of 50 degrees. Thus, we corrected Figure 28.575 to accurately reflect the rule text.

46 CFR Parts 71 and 91. 73 FR 35959 amended § 31.10-16 by adding the National Cargo Bureau, Inc., as a recognized inspection organization. Previously this section only listed the International Cargo Gear Bureau, Inc., as a recognized inspection organization. Sections 71.65-1 and 91.55-1 referenced § 31.10-16 to identify the International Cargo Gear Bureau, Inc., as the cargo gear organization authorized to approve cargo gear plans and specifications. The International Cargo Gear Bureau, Inc., remains the only authorized organization, other than recognized classification societies authorized to perform the approval of plans as described in §§ 71.65-1 and 91.55-1. We amended §§ 71.65-1 and 91.55-1 to eliminate confusion, and ensure that mariners continue to be directed to appropriate cargo gear plans and specifications approval organizations.

46 CFR Part 401. In §§ 401.200 and 401.211, we removed a provision requiring pilots to submit fingerprint charts with registration applications. We removed these provisions because they duplicate the same requirement found in § 401.210(a)(1). In § 401.450, we amended a reference to a pilot change point located in Canada. Previously, the Canadians identified Lock No. 7, Welland Canal, as an appropriate pilot change point. The Canadians have relocated the pilot change point and it is now located at Port Colburne. Both Welland Canal and Port Colburn are under Canadian jurisdiction—rather than U.S. jurisdiction—and as such this amendment imposes no, U.S. based, substantive burden on the regulated public. This amendment merely conveys Canadian operating procedures to mariners that may traverse Canadian waters. Pilots traversing Canadian waters have been complying with this change for many years. Lastly, we amended § 401.720 to reflect the re-codification of 46 U.S.C. 216b(e). Public Law 109-304 (An Act to complete the codification of title 46, United States Code, “Shipping”, as positive law) re-codified 46 U.S.C. 216b(e) as 46 U.S.C. 9304.

46 Part 402. We revised the authorities section by removing a reference to a Department of Transportation regulation that no longer applies to the Coast Guard. We 2104(a) amended § 402.220 by removing a reference to a memorandum of agreement between Canada and the United States, dated 1961, regarding Great Lakes pilotage, and replaced it with a more current version of that agreement dated 1977. There were no substantive changes between the two agreements impacting the public. Lastly, we revised § 402.320 to reflect the most current “working rules” on file with the Coast Guard. These working rules are compiled by voluntary U.S. registered pilot associations authorized to establish pilotage pools. This amendment provides the public with information regarding the current working rules compiled by those organizations.

IV. Regulatory Analyses

A. Executive Order 12866

This rule is not a significant regulatory action under section 3(f) of Executive Order 12866, Regulatory Planning and Review, and does not require an assessment of potential costs and benefits under section 6(a)(3) of that Order. The Office of Management and Budget has not reviewed it under that Order. We expect the economic impact of this rule to be so minimal that a full Regulatory Analysis is unnecessary. As this rule involves internal agency practices and procedures and non-substantive changes, it will not impose any costs on the public.

B. Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000. This rule does not require a general notice of proposed rulemaking and, therefore, is exempt from the requirements of the Regulatory Flexibility Act. However, the Coast Guard certifies under 5 U.S.C. 605(b) that this final rule will not have a significant economic impact on a substantial number of small entities.

C. Collection of Information

This rule calls for no new collection of information under the Paperwork Reduction Act of 1995 (44 U.S.C. 3501-3520).

D. Federalism

A rule has implications for federalism under Executive Order 13132, Federalism, if it has a substantial direct effect on State or local governments and would either preempt State law or impose a substantial direct cost of compliance on them. We have analyzed this rule under that Order and have determined that it does not have implications for federalism.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

F. Taking of Private Property

This rule will not effect a taking of private property or otherwise have taking implications under Executive Order 12630, Governmental Actions and Interference with Constitutionally Protected Property Rights.

G. Civil Justice Reform

This rule meets applicable standards in sections 3(a) and 3(b)(2) of Executive Order 12988, Civil Justice Reform, to minimize litigation, eliminate ambiguity, and reduce burden.

H. Protection of Children

We have analyzed this rule under Executive Order 13045, Protection of Children from Environmental Health Risks and Safety Risks. This rule is not an economically significant rule and does not create an environmental risk to health or risk to safety that may disproportionately affect children.

I. Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

J. Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs at OMB has not designated it as a significant energy action. Therefore, it does not require a Statement of Energy Effects under Executive Order 13211.

K. Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies. This rule does not use technical standards. Therefore, we did not consider the use of voluntary consensus standards.

L. Environment

We have analyzed this rule under Department of Homeland Security Management Directive 5100.1 and Commandant Instruction M16475.1D, which guide the Coast Guard in complying with the National Environmental Policy Act of 1969 (NEPA) (42 U.S.C. 4321-4370f), and have concluded that under the Instruction there are no factors in this case that would limit the use of a categorical exclusion under section 2.B.2 of the Instruction. Therefore, this rule is categorically excluded, under figure 2-1, paragraphs (34)(a) and (b), of the Instruction from further environmental documentation because this rule involves editorial, procedural, and internal agency functions. A final “Environmental Analysis Check List” and a final “Categorical Exclusion Determination” are available in the docket where indicated under ADDRESSES.

List of Subjects

46 CFR Part 1

Administrative practice and procedure, Organization and functions (Government agencies), Reporting and recordkeeping requirements.

46 CFR Part 10

Penalties, Reporting and recordkeeping requirements, Schools, Seamen.

46 CFR Part 12

Penalties, Reporting and recordkeeping requirements, Seamen.

46 CFR Part 13

Cargo vessels, Reporting and recordkeeping requirements, Seamen.

46 CFR Part 14

Oceanographic research vessels, Reporting and recordkeeping requirements, Seamen.

46 CFR Part 15

Reporting and recordkeeping requirements, Seamen, Vessels.

46 CFR Part 28

Alaska, Fire prevention, Fishing vessels, Marine safety, Occupational safety and health, Reporting and recordkeeping requirements, Seamen.

46 CFR Part 31

Cargo vessels, Marine safety, Reporting and recordkeeping requirements.

46 CFR Part 71

Marine safety, Passenger vessels, Reporting and recordkeeping requirements.

46 CFR Part 91

Cargo vessels, Marine safety, Reporting and recordkeeping requirements.

46 CFR Part 107

Marine safety, Oil and gas exploration, Reporting and recordkeeping requirements, Vessels.

46 CFR Part 150

Hazardous materials transportation, Marine safety, Occupational safety and health, Reporting and recordkeeping requirements.

46 CFR Part 176

Fire prevention, Marine safety, Passenger vessels, Reporting and recordkeeping requirements.

46 CFR Part 401

Administrative practice and procedure, Great Lakes, Navigation (water), Penalties, Reporting and recordkeeping requirements, Seamen.

46 CFR Part 402

Great Lakes, Navigation (water), Seamen.

For the reasons discussed in the preamble, the Coast Guard amends 46 CFR Parts 1, 10, 12, 13, 14, 15, 28, 31, 71, 91, 107, 150, 176, 401 and 402 as set forth below: Title 46—Shipping

PART 1—ORGANIZATION, GENERAL COURSE AND METHODS GOVERNING MARINE SAFETY FUNCTIONS

1. The authority citation for part 1 continues to read as follows:

Authority: 5 U.S.C. 552; 14 U.S.C. 633; 46 U.S.C. 7701; 46 U.S.C. Chapter 93; Pub. L. 107-296, 116 Stat. 2135; Department of Homeland Security Delegation No. 0170.1; § 1.01-35 also issued under the authority of 44 U.S.C. 3507.

§ 1.01-15 [Amended]

2. In § 1.01-15(e), remove the sentence “Applicants may contact the National Maritime Center at 4200 Wilson Boulevard, Suite 630, Arlington, Virginia 22203-1804, or by telephone at 202-493-1002.” and add, in its place, the sentence “Applicants may contact the National Maritime Center at 100 Forbes Drive, Martinsburg, West Virginia 25404, or by telephone at 1-888-I-ASK-NMC (1-888-427-5662).”

§ 1.03-15 [Amended]

3. Amend § 1.03-15(h) as follows:

a. In paragraph (h)(1), remove the office designator “(G-MOC)”, and add, in its place, the office designator “(CG-543)”;

b. In paragraph (h)(2), remove the office designator “(G-MS)”, and add, in its place, the office designator “(CG-52)”;

c. In paragraph (h)(3), in the first sentence, remove the office designator “(CG-3PC)” and add, in its place, the office designator “(CG-54)”;

d. In paragraph (h)(3), in the second sentence, remove the office designator “CG-3PC(d)”, and add, in its place, the office designator “(CG-54d)”;

e. In paragraph (h)(4), remove the office designator “(G-PSE)”, and add, in its place, the office designator “(CG-521)”; and

f. In paragraph (h)(5), remove the office designator “(G-M)”, and add, in its place, the office designator “(CG-5)”.

§ 1.03-40 [Amended]

4. In § 1.03-40, remove, in both sentences, the phrase “Director of Inspection and Compliance, Commandant (G-PC)”, and add, in its place, the phrase “Director of Prevention Policy, Commandant (CG-54)”.

§ 1.03-45 [Amended]

5. In § 1.03-45, remove, in both sentences, the phrase “Director of Inspection and Compliance, Commandant (G-3PC)” and add, in its place, the phrase “Director of Prevention Policy, Commandant (CG-54)”.

§ 1.03-50 [Amended]

6. In § 1.03-50, remove the office designator “(G-M)” and add, in its place, the office designator “(CG-5)”.

PART 10—LICENSING OF MARITIME PERSONNEL

7. The authority citation for part 10 continues to read as follows:

Authority: 14 U.S.C. 633; 31 U.S.C. 9701; 46 U.S.C. 2101, 2103, and 2110; 46 U.S.C. chapter 71; 46 U.S.C. 7502, 7505, 7701, and 8906; Executive Order 10173; Department of Homeland Security Delegation No. 0170.1. Section 10.107 is also issued under the authority of 44 U.S.C. 3507.

§ 10.105 [Amended]

8. In § 10.105 paragraph (a), remove the phrase “National Maritime Center, at 4200 Wilson Boulevard, Suite 630, Arlington, VA 22203-1804 or by telephone at 202-493-1002”, and add, in its place, the phrase “National Maritime Center, 100 Forbes Drive, Martinsburg WV 25404 or by telephone at 1-888-I-ASK-NMC (1-888-427-5662)”.

§ 10.112 [Amended]

9. In § 10.112 paragraph (b), remove the phrase “Commanding Officer, U.S. Coast Guard National Maritime Center, 4200 Wilson Boulevard, Suite 630, Arlington, VA 22203-1804”, and add, in its place, the phrase “Commandant (CG-5434), U.S. Coast Guard, 2100 Second Street, SW., Washington, DC 20593”.

§ 10.213 [Amended]

10. In § 10.213 paragraph (e), remove the word “Commandant”, and add, in its place, the phrase “National Maritime Center”.

§ 10.219 [Amended]

11. In § 10.219 paragraph (a), remove the phrase “any OCMI”, and add, in its place, the phrase “the Coast Guard”.

§ 10.302 [Amended]

12-13. In § 10.302 paragraph (a), remove the phrase “Commanding Officer, National Maritime Center, NMC-4B, 4200 Wilson Boulevard, Suite 630, Arlington, VA 22203-1804”, and add, in its place, the phrase “Commanding Officer, National Maritime Center, NMC-42, 100 Forbes Drive, Martinsburg WV 25404”.

§ 10.303 [Amended]

14. In § 10.303 paragraph (e), remove the office designator “(NMC-4B)” and add, in its place, the office designator”NMC-42”.

§ 10.304 [Amended]

15. In § 10.304 paragraph (a), remove the office designator “, NMC-2”.

§ 10.307 [Amended]

16. In § 10.307

a. Remove the phrase “Commanding Officer, National Maritime Center, NMC-2, 4200 Wilson Boulevard, Suite 630, Arlington, VA 22203-1804” and add, in its place, the phrase “Commanding Officer, National Maritime Center, NMC-42, 100 Forbes Drive, Martinsburg WV 25404”; and

b. Remove the Web site “www.uscg.mil/nmc” and add, in its place, the Web site “http://www.uscg.mil/STCW//”.

§ 10.309 [Amended]

17. In § 10.309 paragraph (a)(11), remove the phrase “Commanding Officer, National Maritime Center, NMC-2, 4200 Wilson Boulevard, Suite 630, Arlington, VA 22203-1804”, and add, in its place, the phrase “Commanding Officer, National Maritime Center, NMC-42,100 Forbes Drive, Martinsburg WV 25404”.

§ 10.464 [Amended]

18. In § 10.464 paragraph (f) (3), remove the phrase “complete a TOAR.” and add, in its place, the phrase “complete an approved training course.”

PART 12—CERTIFICATION OF SEAMEN

19. The authority citation for part 12 continues to read as follows:

Authority: 31 U.S.C. 9701; 46 U.S.C. 2101, 2103, 2110, 7301, 7302, 7503, 7505, 7701, and 70105; Department of Homeland Security Delegation No. 0170.1.

§ 12.01-7 [Amended]

20. In § 12.01-7, remove the sentence “Applicants may contact the National Maritime Center at 4200 Wilson Boulevard, Suite 630, Arlington, Virginia 22203-1804, or by telephone at 202-493-1002.” and add, in its place, the sentence “Applicants may contact the National Maritime Center at 100 Forbes Drive, Martinsburg, West Virginia 25404, or by telephone at 1-888-I-ASK-NMC (1-888-427-5662).”

§ 12.02-23 [Amended]

21. In § 12.02-23(c), remove the word “listed” and add, in its place, the word “referenced”.

§ 12.02-27 [Amended]

22. In § 12.02-27(a)(2), remove the word “listed” and add, in its place, the word “referenced”.

§ 12.03-1 [Amended]

23. In § 12.03-1(a)(11), remove the phrase “Commanding Officer, National Maritime Center, NMC-4B, 4200 Wilson Boulevard, Suite 630, Arlington, Virginia 22203-1804” and add, in its place, the phrase “Commanding Officer, National Maritime Center, NMC-2, 100 Forbes Drive, Martinsburg, West Virginia 25404”.

PART 13—CERTIFICATION OF TANKERMEN

24. The authority citation for part 13 continues to read as follows:

Authority: 46 U.S.C. 3703, 7317, 8105, 8703, 9102; Department of Homeland Security Delegation No. 0170.1.

§ 13.107 [Amended]

25. In § 13.107(f), remove the word “listed” and add, in its place, the word “referenced”.

§ 13.109 [Amended]

26. In § 13.109(c), remove the word “listed” and add, in its place, the word “referenced”.

PART 14—SHIPMENT AND DISCHARGE OF MERCHANT MARINERS

27. The authority citation for part 14 continues to read as follows:

Authority: 5 U.S.C. 552; 46 U.S.C. Chapters 103 and 104.

28. Revise § 14.103 to read as follows:

§ 14.103 Addresses of Coast Guard.

(a) U.S. postal mail: U.S. Coast Guard National Maritime Center (NMC-42), 100 Forbes Drive, Martinsburg, West Virginia 25404.

(b) Electronic mail: IASKNMC@uscg.mil.

(c) World wide web: http://www.uscg.mil/nmc.

PART 15—MANNING REQUIREMENTS

29. The authority citation for part 15 continues to read as follows:

Authority: 46 U.S.C. 2101, 2103, 3306, 3703, 8101, 8102, 8104, 8105, 8301, 8304, 8502, 8503, 8701, 8702, 8901, 8902, 8903, 8904, 8905(b), 8906, 9102, and 8103; and Department of Homeland Security Delegation No. 0170.1.

§ 15.610 [Amended]

30. Amend § 15.610 as follows:

a. Remove paragraph (c);

b. Redesignate paragraph (d) as paragraph (c); and

c. In newly designated paragraph (c), remove the phrase “paragraph (d)(1) or paragraph (d)(2)” and add in its place the phrase “paragraph (c)(1) or paragraph (c)(2)”.

PART 28—REQUIREMENTS FOR COMMERCIAL FISHING INDUSTRY VESSELS

31. The authority citation for part 28 continues to read as follows:

Authority: 46 U.S.C. 3316, 4502, 4505, 4506, 6104, 10603; Department of Homeland Security Delegation No. 0170.1.

§ 28.50 [Amended]

32. Amend § 28.50 as follows:

a. In the definition of “Accepted organization” remove the reference “§ 28.073”, and add, in its place, the reference “§ 28.73”.

b. In the definition of “Coast Guard Representative” remove the phrase “Office of Compliance, Fishing Vessels Safety Division, Commandant (G-MOC-3)” and add, in its place, the phrase “Office of Vessel Activities, Fishing Vessels Safety Division, Commandant (CG-5433)”.

§ 28.80 [Amended]

33. In § 28.80(d)(1), remove the sentence “Marine Index Bureau, Inc., 67 Scotch Road, Ewing, NJ, 08628-2504”, and add, in its place, the sentence “Marine Index Bureau (a division of ISO Claim Search), Floor 22-8, 545 Washington Boulevard, Jersey City, NJ, 07310-1686.”

§ 28.275 [Amended]

34. In § 28.275(a)(2), remove the reference “64 CFR 28.270(a)”, and add, in its place, the reference “46 CFR 28.270(a)”.

§ 28.390 [Amended]

35. In § 28.390(c), add the word “and” after the word “light”.

§ 28.575 [Amended]

36. Amend § 28.575 as follows

a. In paragraph(b) remove the formula “KEn(Vn 2AnZn)/W” and add in its place the formula “KEn(Vn²AnZn)/W”.

b. Revise Figure 28.575 to read as follows:

§ 28.575 Severe wind and roll.

* * * * *

PART 31—INSPECTION AND CERTIFICATION

37. The authority citation for part 31 continues to read as follows:

Authority: 33 U.S.C. 1321(j); 46 U.S.C. 2103, 3205, 3306, 3307, 3703; 46 U.S.C. Chapter 701; 49 U.S.C. 5103, 5106; E.O. 12234, 45 FR 58801, 3 CFR, 1980 Comp., p. 277; E.O. 12777, 56 FR 54757, 3 CFR, 1991 Comp., p. 351; Department of Homeland Security Delegation No. 0170.1. Section 31.10-21 also issued under the authority of Sect. 4109, Pub. L. 101-380, 104 Stat. 515.

38. Amend § 31.10-5 by revising paragraph (a)(1) to read as follows:

§ 31.10-5 Inspection of new tank vessels—TB/ALL.

(a) * * *

(1) The plans and specifications shall include the arrangement of the cargo gear. Prior to submission to the Officer in Charge, Marine Inspection, plans and specifications for cargo gear shall be approved by either a recognized classification society or the International Cargo Gear Bureau, Inc., whose home office is located at 321 West 44th Street, New York, NY 10036, on the Internet at http://www.icgb.com.

* * * * *

39. Amend § 31.10-16 by revising paragraphs (e)(1) and (2) to read as follows:

§ 31.10-16 Inspection and certification of cargo gear—TB/ALL.

* * * * *

(e) * * *

(1) National Cargo Bureau, Inc., with home offices at 17 Battery Place, Suite 1232, New York, NY 10004; on the Internet at http://www.natcargo.org.

(2) The International Cargo Gear Bureau, Inc., with home office at 321 West 44th Street, New York, NY 10036; on the Internet at http://www.icgb.com.

PART 71—INSPECTION AND CERTIFICATION

40. The authority citation for part 71 continues to read as follows:

Authority: 33 U.S.C. 1321(j); 46 U.S.C. 2113, 3205, 3306, 3307; E.O. 12234, 45 FR 58801, 3 CFR, 1980 Comp., p. 277; E.O. 12777, 56 FR 54757, 3 CFR, 1991 Comp., p. 351; Department of Homeland Security Delegation No. 0170.1.

41. Amend § 71.65-1 by revising paragraph (c) to read as follows:

§ 71.65-1 General.

* * * * *

(c) Plans and specifications for cargo gear shall be approved by either a recognized classification society or the International Cargo Gear Bureau, Inc., whose home office is located at 321 West 44th Street, New York, NY 10036; on the Internet at http://www.icgb.com.

PART 91—INSPECTION AND CERTIFICATION

42. The authority citation for part 91 continues to read as follows:

Authority: 33 U.S.C. 1321(j); 46 U.S.C. 3205, 3306, 3307; 46 U.S.C. Chapter 701; Executive Order 12234; 45 FR 58801; 3 CFR, 1980 Comp., p. 277; Executive Order 12777, 56 FR 54757, 3 CFR, 1991 Comp., p. 351; Department of Homeland Security Delegation No. 0170.1.

43. Amend § 91.55-1 by revising paragraph (c) to read as follows:

§ 91.55-1 General.

* * * * *

(c) Plans and specifications for cargo gear shall be approved by either a recognized classification society or the International Cargo Gear Bureau, Inc., whose home office is located at 321 West 44th Street, New York, NY 10036, on the Internet at http://www.icgb.com.

PART 107—INSPECTION AND CERTIFICATION

44. The authority citation for part 107 continues to read as follows:

Authority: 43 U.S.C. 1333; 46 U.S.C. 3306, 3307; 46 U.S.C. 3316; Department of Homeland Security Delegation No. 0170.1; § 107.05 also issued under the authority of 44 U.S.C. 3507.

45. Amend § 107.115 by revising paragraph (b)(4) to read as follows:

§ 107.115 Incorporation by reference.

* * * * *

(b) * * *

(4) International Cargo Gear Bureau, Inc., 321 West 44th Street, New York, New York 10036, on the Internet at http://www.icgb.com.

* * * * *

46. Amend § 107.258 by revising paragraph (a)(2) to read as follows:

§ 107.258 Crane certification.

(a) * * *

(2) International Cargo Gear Bureau, Inc., 321 West 44th Street, New York, NY 10036, on the Internet at http://www.icgb.com.

* * * * *

47. Amend § 107.309 by revising the note following paragraph (a)(4) to read as follows:

§ 107.309 Crane plans and information.

* * * * *

(a) * * *

(4) * * *

Note to § 107.309(a)(4): These plans must be submitted to the Coast Guard, if the crane is not certified. If the crane is to be certified, four copies must be sent to the American Bureau of Shipping or the International Cargo Gear Bureau, Inc.

* * * * *

48. Amend § 107.317 by revising paragraph (d) to read as follows:

§ 107.317 Addresses for submittal of plans, specifications, and calculations.

* * * * *

(d) International Cargo Gear Bureau, Inc., 321 West 44th Street, New York, NY 10036, on the internet at http://www.icgb.com.

PART 150—COMPATIBILITY OF CARGOES

49. The authority citation for part 150 continues to read as follows:

Authority: 46 U.S.C. 3306, 3703; Department of Homeland Security Delegation No. 0170.1. Section 150.105 issued under 44 U.S.C. 3507; Department of Homeland Security Delegation No. 0170.1.

Table I to Part 150 [Amended]

50. Amend Table I to part 150 by revising the entry for “Oleylamine” and adding the entry for “Styrene monomer” to read as follows:

Table I to Part 150—Alphabetical List of Cargoes
Chemical name | Group No. | Footnote | CHRIS code | Related CHRIS codes
* * * * * * *
Oleylamine | 7 |  | OLY
* * * * * * *
Styrene monomer | 30 |  | STY | STX
* * * * * * *

Table II to part 150—Grouping of Cargoes [Amended]

51. Amend Table II to part 150 by adding the word “monomer” after the word “Styrene” in Group 30.

PART 176—INSPECTION AND CERTIFICATION

52. The authority citation for part 176 continues to read as follows:

Authority: 33 U.S.C. 1321(j); 46 U.S.C. 2103, 3205, 3306, 3307; 49 U.S.C. App. 1804; E.O. 11735, 38 FR 21243, 3 CFR, 1971-1975 Comp., p. 743; E.O. 12234, 45 FR 58801, 3 CFR, 1980 Comp., p. 277; Department of Homeland Security Delegation No. 0170.

§ 176.816 [Amended]

53. In the heading of the section remove the word “MIscellaneous” and add, in its place the word, “Miscellaneous”.

PART 401—GREAT LAKES PILOTAGE REGULATIONS

54. The authority citation for part 401 continues to read as follows:

Authority: 46 U.S.C. 2104(a), 6101, 7701, 8105, 9303, 9304; Department of Homeland Security Delegation No. 0170.1; 46 CFR 401.105 also issued under the authority of 44 U.S.C. 3507.

§ 401.110 [Amended]

55. Amend § 401.110(a)(9) by removing the office designator “Commandant (G-MWP-2)” and adding, in its place, the office designator “Commandant (CG-54122)”.

56. Amend § 401.200 by revising paragraph (a) to read as follows:

§ 401.200 Application for registration.

(a) An application for registration as a U.S. Registered Pilot shall be made on Form CG-4509, which shall be submitted with two full-face photographs, 1½ inches by 2 inches, signed on the face. These forms may be obtained from the Director.

* * * * *

57. Amend § 401.211 by revising paragraph (d) to read as follows:

§ 401.211 Requirements for training of Applicant Pilots.

* * * * *

(d) Persons desiring to be considered as an Applicant Pilot shall file with the Director a completed Application Form, CG-4509, with two full-face photographs, 1½ inches by 2 inches, signed on the face.

* * * * *

58. Amend § 401.450 by revising paragraph (d) to read as follows:

§ 401.450 Pilot Change Points.

* * * * *

(d) Port Colborne;

* * * * *

§ 401.720 [Amended]

59. In § 401.720 paragraph (b) remove the citation “46 U.S.C. 216b(e)” and add, in its place the citation “46 U.S.C. 9304”.

PART 402—GREAT LAKES PILOTAGE RULES AND ORDERS

60. The authority citation for part 402 is revised to read as follows:

Authority: 46 U.S.C. 2104(a), 8105, 9303, 9304.

§ 402.220 [Amended]

61. In § 402.220 paragraph (b)(8) remove the reference “Memorandum of Arrangements, Great Lakes Pilotage, between the Secretary of Commerce of the United States and the Minister of Transport, Canada on May 1, 1961” and add, in its place, the reference “Memorandum of Arrangements Great Lakes Pilotage Between the Minister of Transport of Canada and the Secretary of Transportation of the United States of America, January 18, 1977.”

62. Revise § 402.320 to read as follows:

§ 402.320 Working rules.

(a) Sections 401.320(d)(2) and (6) of this chapter require that voluntary associations of U.S. Registered Pilots authorized to establish pilotage pools agree to submit Working Rules for approval of the Director and that they will coordinate their pool operations with Canada on a reciprocal basis. The following approved Working Rules are on file in the office of the Director and are available for public inspection by any person properly and directly concerned:

(1) The Working Rules and Dispatching Procedures for the designated waters of District No. 1 adopted by the St. Lawrence Seaway Pilots' Association, Inc., Cape Vincent, N.Y., dated May 1, 1980, amended to March 24, 1999.

(2) The Working Rules and Dispatch Procedures for the undesignated waters of District No. 1 adopted by the St. Lawrence Seaway Pilots' Association, Inc., Cape Vincent, N.Y., dated July 27, 1982.

(3) The Working Rules, Dispatching Procedures, and General Rules of District No. 2 adopted by the Lakes Pilots Association, Inc., Port Huron, MI., dated March 30, 1999.

(4) The Working Rules for District No. 3, adopted by the Western Great Lakes Pilots Association, LLP, Superior, WI., dated February 24, 2001 amended to February 28, 2007.

(b) [Reserved]

Dated: September 15, 2008.
Stefan G. Venckus,
Chief, Office of Regulations and Administrative Law, United States Coast Guard.

[FR Doc. E8-21884 Filed 9-26-08; 8:45 am]

BILLING CODE 4910-15-P